DEPARTMENT OF HEALTH AND HUMAN SERVICES

Centers for Medicare and Medicaid Services

[Document Identifier: CMS-730 & CMS-80, CMS-2649, and CMS-R-282]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (CMS)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Employee Building Pass Application and File; Form No.: CMS-730 & CMS-80 (OMB# 0938-0812); Use: The purpose of this system is to control United States Government Building Passes issued to all Centers for Medicare & Medicaid Services (CMS) employees and non-CMS employees who require continuous access to CMS buildings in Baltimore and other CMS and HHS Buildings; Frequency: As needed; Affected Public: Federal Government and Business or other for-profit; Number of Respondents: 2000; Total Annual Responses: 2000; Total Annual Hours: 500.

2. Type of Information Collection Request: Extension of a currently approved collection; Title of Information Collection: Request for Reconsideration of Part A Medicare Claims and Supporting Regulations in 42 CFR, 405.711; Form No.: CMS-2649 (OMB# 0938-0045); Use: Section 1869 of the Social Security Act authorizes a hearing for any individual who is dissatisfied with the intermediary's determination or amount of benefit paid. This form is used so that a party may request a reconsideration of the initial determination; Frequency: Monthly, Quarterly, Annually; Affected Public: Individuals or Households and Not-for-profit institutions; Number of Respondents: 62,000; Total Annual Responses: 62,000; Total Annual Hours: 15,500.

3. Type of Information Collection Request: Extension of a currently approved collection; Title of Information Collection: Medicare + Choice (M+C) Organization Appeals and Grievance Data Disclosure Requirements and Supporting Regulations in 42 CFR 422.64, 422.111, and 422.560-422.626; Form No.: CMS-R-282 (OMB# 0938-0778); Use: M+C organizations will collect information on appeals and grievance dispositions to help CMS monitor plan performance and to provide information to beneficiaries to help them make informed decisions about their or potential health plans' performance; Frequency: Semi-Annually; Affected Public: Business or other for-profit; Number of Respondents: 214; Total Annual Responses: 428; Total Annual Hours: 1284.

To obtain copies of the supporting statement and any related forms for the proposed paperwork collections referenced above, access CMS's Web site address at http://cms.hhs.gov/regulations/pra/default.asp, or E-mail your request, including your address, phone number, OMB number, and CMS document identifier, to Paperwork@cms.hhs.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Dawn Willinghan, Room: C5-14-03, 7500 Security Boulevard, Baltimore, Maryland 21244-1850.

Dated: July 17, 2003.
Dawn Willinghan,
CMS Reports Clearance Officer, Division of Regulations Development and Issuances, Office of Strategic Operations and Strategic Affairs.

[FR Doc. 03-19104 Filed 7-25-03; 8:45 am]

BILLING CODE 4120-03-P